DEPARTMENT OF TRANSPORTATION

Federal Aviation Administration

Aging Transport System Rulemaking Advisory Committee Meeting

AGENCY: Federal Aviation Administration (FAA), DOT.

ACTION: Notice of public meeting.

SUMMARY: This notice announces a public meeting of the FAA's Aging Transport Systems Rulemaking Advisory Committee (ATSRAC).

DATES: The FAA will hold the meeting on July 9, 10, and 11, 2002, from 9:00 a.m. to 5:00 p.m. on the 9th and 10th and from 8:30 a.m. to 3:30 p.m. on the 11th.

ADDRESSES: On July 9th and 10th the meeting will be held at the Federal Aviation Administration, MacCracken Room, 800 Independence Avenue, Washington, DC 20591. Only July 11th the meeting will be held at the Boeing Company, 1200 Wilson Blvd., Rosslyn, Virginia.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee, which will be held at the Federal Aviation Administration, MacCracken Room, 800 Independence Avenue, Washington, DC 20591 on July 9 and 10, 2002, and at the Boeing Company, 1200 Wilson Blvd., Rosslyn, Virginia on July 11th.

The agenda topics for meeting will include the following:

1. Presentation of Draft Final Reports From the Following Harmonization Working Groups:

• Wire System Certification Requirements

• Standard Wire Practice Manual

• Enhanced Training Program for Wire Systems

• Enhanced Maintenance Criteria for Systems

2. Status Report on Small Transport Airplane Harmonization Working Group

3. Update on the Enhanced Airworthiness Programs for Airplane Systems (EAPAS) Plan

4. Status of FAA's Research and Development Program on Aging Systems

5. Intrusive Inspection Recommendation Status

Meeting attendance is open to the public. However, space will be limited by the size of the available meeting room. The FAA will provide teleconference services to individuals who wish to participate by telephone and who submit their requests before June 28th. If you use the teleconference service from within the Washington, DC metropolitan calling area, the call would be considered local. However, callers from outside this calling area will be responsible for paying long-distance charges. In addition to teleconferencing services, we will provide sign and oral interpretation, as well as a listening device if requests are made within 7 calendar days before the meeting. You may arrange for these services by contacting the person listed under the FOR FURTHER INFORMATION CONTACT heading of this notice.

The public may present written statements to the Committee by providing 20 copies of the Committee's Executive Director or by bringing the copies to the meeting. Public statements will only be considered if time permits.

Issued in Washington, on June 14, 2002.
Anthony F. Fazio,
Director, Office of Rulemaking.

[FR Doc. 02-15780 Filed 6-18-02; 4:55 pm]

BILLING CODE 4910-13-M